SMALL BUSINESS ADMINISTRATION

[Disaster Declaration #21202 and #21203; NEW MEXICO Disaster Number NM-20017]

Presidential Declaration Amendment of a Major Disaster for the State of New Mexico

AGENCY: U.S. Small Business Administration.

ACTION: Amendment 2.

SUMMARY: This is an amendment of the Presidential declaration of a major disaster for the State of New Mexico (FEMA-4886-DR), dated July 22, 2025.

Incident: Severe Storms, Flooding and Landslides.

DATES: Issued on August 18, 2025.

Incident Period: June 23, 2025, through August 5, 2025.

Physical Loan Application Deadline Date: September 22, 2025.

Economic Injury (EIDL) Loan Application Deadline Date: April 22, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: The notice of the President's major disaster declaration for the State of New Mexico, dated July 22, 2025, is hereby amended to update the incident period for this disaster as beginning June 23, 2025 and continuing through August 5, 2025.

All other information in the original declaration remains unchanged.

(Catalog of Federal Domestic Assistance Number 59008)

(Authority: 13 CFR 1234.3(b).)

James Stallings,
Associate Administrator, Office of Disaster Recovery & Resilience.

[FR Doc. 2025-16253 Filed 8-22-25; 8:45 am]

BILLING CODE 8026-09-P